POSTAL SERVICE BOARD OF GOVERNORS

Sunshine Act Meeting

Board Votes To Close April 13, 2001, Meeting

By telephone vote on April 13, 2001, the Board of Governors of the United States Postal Service voted unanimously to close to public observation its meeting held in Washington, DC via teleconference. The Board determined that prior public notice was not possible.

ITEMS CONSIDERED: 1. Strategic Planning/Postal Reform.

2. Postal Rate Commission Opinion and Recommended Decision on Further Reconsideration in Docket No. R2000-1, Omnibus Rate Case.

3. Personnel Matters.

GENERAL COUNSEL CERTIFICATION: The General Counsel of the United States Postal Service has certified that the meeting was properly closed under the Government in the Sunshine Act.

CONTACT PERSON FOR MORE INFORMATION: Requests for information about the meeting should be addressed to the Secretary of the Board, David G. Hunter, at (202) 268-4800.

David G. Hunter,
Secretary.

[FR Doc. 01-10265 Filed 4-20-01; 2:15 pm]

BILLING CODE 7710-12-M